FEDERAL HOUSING FINANCE AGENCY

[No. 2010-N-06]

Proposed Collection; Comment Request

AGENCY: Federal Housing Finance Agency.

ACTION: 60-day Notice of Intent To Submit an Information Collection to the Office of Management and Budget for Approval.

SUMMARY: In accordance with the requirements of the Paperwork Reduction Act of 1995, the Federal Housing Finance Agency (FHFA) is seeking public comments concerning a currently approved information collection “Monthly Survey of Rates and Terms on Conventional 1-Family Non-Farm Mortgage Loans,” known as the Monthly Interest Rate Survey or MIRS. The Office of Management and Budget (OMB) assigned MIRS control number 2590-0004, which is due to expire on September 30, 2010. FHFA intends to submit the information collection to OMB for review and approval for a three-year extension of the control number.

DATES: Interested persons may submit comments on or before July 12, 2010.

Comments: Submit comments to FHFA using any one of the following methods:

• E-mail: regcomments@fhfa.gov. Please include “Proposed Collection; Comment Request: Monthly Interest Rate Survey (No. 2010-N-06)” in the subject line of the message.

• Mail/Hand Delivery: Federal Housing Finance Agency, Fourth Floor, 1700 G Street, NW., Washington, DC 20552, ATTENTION: Public Comments Proposed Collection; Comment Request: “Monthly Interest Rate Survey,” (No. 2010-N-06).

• Federal eRulemaking Portal: http://www.regulations.gov. Follow the instructions for submitting comments.

We will post all public comments we receive without change, including any personal information you provide, such as your name and address, on the FHFA Web site at http://www.fhfa.gov.

FOR FURTHER INFORMATION CONTACT: David L. Roderer, Senior Financial Analyst, 202-408-2540 (not a toll-free number), david.l.roderer@fhfa.gov. The telephone number for the Telecommunications Device for the Deaf is 800-877-8339.

SUPPLEMENTARY INFORMATION:

A. Need for and Use of the Information Collection

The Housing and Economic Recovery Act of 2008 (HERA), Public Law 110-289, 122 Stat. 2654, amended the Federal Housing Enterprises Financial Safety and Soundness Act of 1992 (Safety and Soundness Act) (12 U.S.C. 4501 et seq.) and the Federal Home Loan Bank Act (12 U.S.C. 1421 et seq.) to establish FHFA as an independent agency of the Federal government.¹ One of FHFA's predecessor agencies, the former Federal Housing Finance Board (Finance Board), provided data concerning a survey of mortgage interest rates until HERA transferred those responsibilities to FHFA. This survey, known as the Monthly Interest Rate Survey or MIRS, is described in 12 CFR 906.5.

¹ See Division A, titled the “Federal Housing Finance Regulatory Reform Act of 2008,” Tit. I, section 1101 of HERA.

The information collection is used by FHFA to produce the MIRS and for general statistical purposes and program evaluation. The MIRS provides monthly information on interest rates, loan terms, and house prices by property type (all, new, previously occupied), by loan type (fixed- or adjustable-rate), and by lender type (savings associations, mortgage companies, commercial banks, and savings banks), as well as information on 15-year and 30-year fixed-rate loans. In addition, the MIRS provides quarterly information on conventional loans by major metropolitan area and by FHLBank district.

To conduct the MIRS, FHFA asks a sample of mortgage lenders to report voluntarily the terms and conditions on all single-family, fully amortized, purchase-money, non-farm loans that they close during the last five business days of the month. The MIRS excludes FHA-insured and VA-guaranteed loans, multifamily loans, mobile home loans, and loans created by refinancing another mortgage.

Information concerning the MIRS is published regularly on the FHFA Web site, http://www.fhfa.gov, in FHFA press releases, in the popular and trade press, including a monthly 1-page ARM index release, a monthly 8- or 12-page release with mortgage rate and term data, and an annual summary all available via FHFA's Web site, and in publications of other Federal agencies, including The Economic Report of the President and Statistical Abstract of the United States. FHFA publishes on its Web site the phone number for an automated telephone answering system that provides callers a recorded message about the ARM index and other MIRS information.

Economic policy makers use the MIRS data to determine trends in the mortgage markets, including interest rates, down payments, terms to maturity, terms on ARMs, and initial fees and charges on mortgage loans. Other federal banking agencies, such as the Board of Governors of the Federal Reserve System and the Council of Economic Advisors, use the MIRS results for research purposes.

FHFA considers MIRS, among other indexes or measures FHFA determines are appropriate, in establishing and maintaining a method to assess the national average one-family house price for use for adjusting the conforming loan limitations of Freddie Mac and Fannie Mae. 12 U.S.C. 4542. Other statutory references of the MIRS include the following:

• In 1989, Congress required the Chairperson of the Finance Board to take necessary actions to ensure that indices used to calculate the interest rate on adjustable-rate mortgages (ARMs) remain available. See FIRREA, tit. IV, section 402, paragraphs (e)(3)-(4), 103 Stat. 183, codified at 12 U.S.C. 1437 note. At least one ARM index, known as the National Average Contract Mortgage Rate for the Purchase of Previously Occupied Homes by Combined Lenders, is derived from the MIRS data. The statute permits FHFA to substitute a different ARM index after notice and comment only if the new ARM index is based upon data substantially similar to that of the original ARM index and substitution of the new ARM index will result in an interest rate substantially similar to the rate in effect at the time the new ARM index replaces the existing ARM index. See 12 U.S.C. 1437 note.

• Congress indirectly connected the high cost area limits for mortgages insured by the Federal Housing Administration (FHA) of the Department of Housing and Urban Development to the MIRS in 1994 when it statutorily linked these FHA insurance limits to the purchase price limitations for Fannie Mae. See Public Law No. 103-327, 108 Stat. 2314 (Sept. 28, 1994), codified at 12 U.S.C. 1709(b)(2)(A)(ii).

• Statutes in several states and U.S. territories, including California, Michigan, Minnesota, New Jersey, Wisconsin, and the Virgin Islands, refer to, or rely upon, the MIRS. See, e.g., Cal. Civ. Code §§ 1916.7 and 1916.8 (mortgage rates); Mich. Comp. Laws § 445.1621(d) (mortgage index rates); Minn. Stat. § 92.06 (payments for state land sales); N.J. Rev. Stat. 31:1-1 (interest rates); Wis. Stat. § 138.056 (variable loan rates); V.I. Code Ann. tit. 11, § 951 (legal rate of interest).

The respondents include a sample of major mortgage lenders, such as savings institutions, commercial banks, and mortgage loan companies. Most of the respondents submit the requested information electronically using the MIRS software in a format similar to FHFB Form FHFB 10-91. Some respondents elect to complete FHFB Form 10-91 and submit it by facsimile. Respondents are requested to submit the information on a monthly basis.

The OMB number for the information collection is 2590-0004. The OMB clearance for the information collection expires on September 30, 2010.

B. Burden Estimate

FHFA estimates the total annual number of respondents at 76 with 8 responses per respondent. The estimate for the average hours per response is 20 minutes. The estimate for the total annual hour burden is 200 hours (76 respondents × 8 responses × 0.33 hours).

C. Comment Request

FHFA requests written comments on the following: (1) Whether the collection of information is necessary for the proper performance of FHFA functions, including whether the information has practical utility; (2) the accuracy of FHFA estimates of the burdens of the collection of information; (3) ways to enhance the quality, utility, and clarity of the information collected; and (4) ways to minimize the burden of the collection of information, including through the use of automated collection techniques or other forms of information technology.

Dated: May 6, 2010.
Edward J. DeMarco,
Acting Director, Federal Housing Finance Agency.

[FR Doc. 2010-11267 Filed 5-11-10; 8:45 am]

BILLING CODE P